ENVIRONMENTAL PROTECTION AGENCY

40 CFR Part 52

[EPA-R07-OAR-2007-0095; FRL-8309-4]

Approval and Promulgation of Implementation Plans; State of Missouri

AGENCY: Environmental Protection Agency (EPA).

ACTION: Proposed rule.

SUMMARY: EPA proposes to approve an amendment to the Missouri State Implementation Plan (SIP). This action approves an amendment to the SIP-approved Doe Run Herculaneum Consent Judgment to remove language specifying the exact bag technology to be used in the baghouses. Related performance standard requirements will remain unchanged. This action is independent and does not affect the revision to the Missouri SIP due in April 2007, in response to the SIP Call issued April 14, 2006, to bring the area of Herculaneum into compliance with the lead National Ambient Air Quality Standard.

DATES: Comments on this proposed action must be received in writing by June 4, 2007.

ADDRESSES: Submit your comments, identified by Docket ID No. EPA-R07-OAR-2007-0095 by one of the following methods:

1. http://www.regulations.gov: Follow the on-line instructions for submitting comments.

2. E-mail: yoshimura.gwen@epa.gov.

3. Mail: Gwen Yoshimura, Environmental Protection Agency, Air Planning and Development Branch, 901 North 5th Street, Kansas City, Kansas 66101.

4. Hand Delivery or Courier. Deliver your comments to Gwen Yoshimura, Environmental Protection Agency, Air Planning and Development Branch, 901 North 5th Street, Kansas City, Kansas 66101. Such deliveries are only accepted during the Regional Office's normal hours of operation. The Regional Office's official hours of business are Monday through Friday, 8 to 4:30, excluding legal holidays.

Please see the direct final rule which is located in the Rules section of this Federal Register for detailed instructions on how to submit comments.

FOR FURTHER INFORMATION CONTACT: Gwen Yoshimura at (913) 551-7073, or by e-mail at yoshimura.gwen@epa.gov.

SUPPLEMENTARY INFORMATION: In the final rules section of the Federal Register, EPA is approving the state's SIP revision as a direct final rule without prior proposal because the Agency views this as a noncontroversial revision amendment and anticipates no relevant adverse comments to this action. The revisions will not increase emissions and do not affect the stringency of the control requirement. Additionally, the revisions have gone through the Missouri approval process, including a public hearing and opportunity for public comment. EPA was the only party to provide comments during Missouri's comment period. Therefore, we do not anticipate any adverse comments. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: April 26, 2007.
John B. Askew,
Regional Administrator, Region 7.

[FR Doc. E7-8566 Filed 5-3-07; 8:45 am]

BILLING CODE 6560-50-P